DEPARTMENT OF COMMERCE

International Trade Administration

[A-580-831]

Notice of Amended Final Antidumping Duty Administrative Review: Stainless Steel Plate in Coils from the Republic of Korea; Correction

AGENCY: Import Administration, International Trade Administration, Department of Commerce.

ACTION: Notice of amended final results of antidumping duty administrative review of stainless steel plate in coils from the Republic of Korea.

EFFECTIVE DATE: June 25, 2002.

SUMMARY: On April 23, 2002, the Department issued its amended final results for the administrative review of the antidumping duty order on stainless steel plate in coils from the Republic of Korea for the period of review November 4, 1998, through April 30, 2000. See Notice of Amended Final Antidumping Duty Administrative Review: Stainless Steel Plate in Coils From the Republic of Korea (“Amended Final Results”), 67 FR 19734 (April 23, 2002).

Our Amended Final Results erroneously stated that the case number was A-580-841. However, the correct case number is A-580-831. No other changes have been made to the Amended Final Results.

FOR FURTHER INFORMATION CONTACT: Brandon Farlander and Robert Bolling, AD/CVD Enforcement Group III, Office 9, Import Administration, International Trade Administration, U.S. Department of Commerce, 14th Street and Constitution Avenue, N.W., Washington, DC 20230; telephone: (202) 482-0182 and (202) 482-3434, respectively.

DATED: June 14, 2002
Faryar Shirzad,
Assistant Secretary for Import Administration.

[FR Doc. 02-16014 Filed 6-24-02; 8:45 am]

BILLING CODE 3510-DS-S